MILITARY COMPENSATION AND RETIREMENT MODERNIZATION COMMISSION

Meeting of the Military Compensation and Retirement Modernization Commission

AGENCY: Military Compensation and Retirement Modernization Commission.

ACTION: Notice of Public Meetings and Town Hall Meeting.

SUMMARY: The Military Compensation and Retirement Modernization Commission (Commission) was established by National Defense Authorization Act, FY 2013. Pursuant to the Act, the Commission is holding public hearings and a town hall in order to solicit comments from the general public and select experts on the modernization of the military compensation and retirement systems.

DATES: The hearings and town hall will be held Tuesday, February 25, 2014.

ADDRESSES: The hearings and town hall will be held at the Embassy Suites Fayetteville Fort Bragg, 4760 Lake Valley Drive, Fayetteville, North Carolina 28303.

FOR FURTHER INFORMATION CONTACT: Christopher Nuneviller, Associate Director, Military Compensation and Retirement Modernization Commission, PO Box 13170, Arlington VA 22209, telephone 703-692-2080, fax 703-697-8330, email christopher.nuneviller@mcrmc.gov.

SUPPLEMENTARY INFORMATION: The Military Compensation and Retirement Modernization Commission (Commission) was established by the National Defense Authorization Act FY 2013, Public Law 112-239, § 671, (amended by National Defense Authorization Act FY 2014, Pub. L. 113-66, § 1095). The Commission will conduct public hearings and town halls across the United States and on select military installations internationally in order to solicit comments on the modernization of the military compensation and retirement systems. The Commission seeks the views of service members, retirees, their beneficiaries and other interested parties regarding pay, retirement, health benefits and quality of life programs of the Uniformed Services. The Commission will hear from senior commanders of local military commands and their senior enlisted advisors, unit commanders and their family support groups, local medical and education community representatives, and other quality of life organizations. These meetings sites will be accessible to members of the general public including individuals with disabilities.

On February 25, 2014, the Commission will hold public hearings from 10:00 a.m. until 5:00 p.m., and a public town hall meeting from 7:00 p.m. until 9:00 p.m.

February 25, 2014 Agenda

10:00 a.m. to 12:00 p.m. Senior Local Military Commanders and Senior Enlisted Advisors

1:30 p.m. to 3:00 p.m. Local Military/Veteran Transition Service Organizations

3:15 p.m. to 5:00 p.m. Department of Defense and Local Schools

7:00 p.m. to 9:00 p.m. Town Hall

The Panel Testimony heard on Tuesday, February 25, 2014, will consist of:

a. Brief opening remarks by the Chairman and one or more of the Commissioners,

b. brief opening remarks by each panelist, and

c. questions posed by the Chairman and Commissioners to the panelists.

On the evening of Tuesday, February 25, 2014, the Chairman and Commissioners will hear from the public. Attendees will be given an opportunity to address the Chairman and Commissioners and relay to them their experience and comments.

Due to the deliberative, nascent and formative nature of the Commission's work, the Commissioners are unable to discuss their thoughts, plans or intentions for specific recommendations that will ultimately be made to the President and Congress.

The public hearings will be transcribed and placed on the Commission's Web site. In addition to public hearings, and due to the essential need for input from the beneficiaries, the Commission is accepting and strongly encourages comments and other submissions on its Web site (www.mcrmc.gov).

Christopher Nuneviller,
Associate Director, Administration and Operations.

[FR Doc. 2014-03369 Filed 2-14-14; 8:45 am]

BILLING CODE P